DEPARTMENT OF TRANSPORTATION

Federal Aviation Administration

14 CFR Part 39

[Docket No. FAA-2006-23889; Directorate Identifier 2005-NM-252-AD]

RIN 2120-AA64

Airworthiness Directives; Airbus Model A318, A319, A320, and A321 Series Airplanes

AGENCY: Federal Aviation Administration (FAA), Department of Transportation (DOT).

ACTION: Supplemental notice of proposed rulemaking (NPRM); reopening of comment period.

SUMMARY: The FAA is revising an earlier NPRM for an airworthiness directive (AD) that applies to certain Airbus Model A318-111 airplanes; A319-100 series airplanes; A320-111 airplanes; A320-200 series airplanes; and A321-100 and -200 series airplanes. The original NPRM would have required inspecting to determine the part number of the twin motor actuators, and related investigative and corrective actions if necessary. The original NPRM resulted from a report of a low pressure valve of the twin motor actuator found partially open, although the valve detection system indicated that the valve was closed. Investigation revealed that the locating pin in the actuator was too short to engage with the valve slot, resulting in incorrect alignment of the actuator and the drive assembly, causing the valve to remain partially open. This action revises the original NPRM by expanding the applicability. We are proposing this supplemental NPRM to ensure that, in the event of an engine fire, the valve actuator functions properly to block the fuel flow to the engine and prevent an uncontrollable fire.

DATES: We must receive comments on this supplemental NPRM by June 12, 2006.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

Fax: (202) 493-2251.

Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Comments Invited

We invite you to submit any relevant written data, views, or arguments regarding this supplemental NPRM. Send your comments to an address listed in the ADDRESSES section. Include the docket number “Docket No. FAA-2006-23889; Directorate Identifier 2005-NM-252-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain Airbus Model A318-111 airplanes; A319-100 series airplanes; A320-111 airplanes; A320-200 series airplanes; and A321-100 and -200 series airplanes. The original NPRM was published in the Federal Register on February 15, 2006 (71 FR 7878). The original NPRM proposed to require inspecting to determine the part number of the twin motor actuators, and related investigative and corrective actions if necessary.

Since the original NPRM was issued, we have changed the airplane model designations to expand the applicability of this supplemental NPRM and be consistent with the parallel French airworthiness directive.

Comments

We have considered the following comments on the original NPRM.

Requests To Expand Applicability

Airbus asks that the applicability identified in the original NPRM be expanded to match the effectivity in the referenced French airworthiness directive. Airbus states that the referenced French airworthiness directive applies to all Airbus Model A318, A319, A320, and A321 series airplanes, certified according to the type certificate data sheet (TCDS) issued in December 2005. Airbus adds that since the new TCDS was issued, the original NPRM is missing Model A318-112, -121 and -122 airplanes, and Model A321-212, -213, and -232 airplanes. Airbus notes that airplanes delivered after the issuance of the original NPRM with manufacturer serial number (MSN) 2155 or above are not affected by the original NPRM; airplanes delivered with MSN 2154 or below are affected by original NPRM.

JetBlue Airways asks that the applicability in the original NPRM be changed to include the MSNs affected. JetBlue states that the original NPRM is applicable to all Model A320 airplanes.

We agree with Airbus and partially agree with JetBlue; Airbus and the Direction Générale de l'Aviation Civile (DGAC), which is the airworthiness authority for France, determined that the requirements in the original NPRM do not apply to airplanes with MSN 2155 or above. We have expanded the applicability in this supplemental NPRM as follows: “Airbus Model A318, A319, A320, and A321 series airplanes, certificated in any category, except airplanes having manufacturer serial number (MSN) 2155 and subsequent.”

Request To Remove General Visual Inspection (GVI)

JetBlue asks that the original NPRM be changed to remove the GVI and allow accomplishing the inspection/check specified in the Airbus/DGAC guidelines that are currently available. JetBlue states that the GVI, per Note 1 of the original NPRM, differs from the referenced French airworthiness directive and Airbus service bulletin, which specify a check for the discrepant part number (P/N)/serial number (S/N) of the discrepant actuator. JetBlue adds that the inclusion of a GVI will result in considerable retroactive work for U.S. operators who proactively launched/completed the inspection per the referenced Airbus service bulletin. JetBlue adds that it has already initiated the inspections in accordance with the Airbus service bulletin.

We agree with the commenter. The French airworthiness directive requires inspecting the actuators for certain part numbers; the Airbus service bulletin specifies checking for certain P/Ns and S/Ns. The procedures for these actions do not constitute a GVI. We have removed the reference to a GVI in paragraph (f) and removed Note 1 of this supplemental NPRM.

Request To Add New Service Information

US Airways, and the Air Transport Association (ATA) on behalf of US Airways, ask that the supplemental NPRM include a requirement to accomplish the actions specified in Airbus Service Bulletins A320-28-1128 and A320-28-1129, which describe procedures to inspect actuators in the crossfeed valve in the center tank and the additional center tank (ACT) transfer valve in the ACT. The commenters state that inspecting the crossfeed and transfer valve positions is necessary to ensure that no defective actuator is installed.

We do not agree with the commenters. No unsafe condition has been determined to exist other than in low pressure positions in the wing, when combined with an engine fire or engine malfunction when it is critical to shut down an engine. Therefore, the status of the subject service bulletins remains “recommended;” Airbus will not upgrade the service bulletins to “mandatory” and we will not add them to the supplemental NPRM.

Request To Change Work Hours

US Airways asks that the work hours specified in the original NPRM be increased from 1 to 6. US Airways states that the visual part number check and the corrective actions both require removal/installation of leading edge access panels, and since the affected twin motor actuator could be installed in three to four different positions on each airplane, depending on the airplane type, 1 work hour is not sufficient.

We do not agree with the commenter. The costs of compliance discussed in NPRMs represent only the time necessary to perform the specific actions actually proposed by the NPRM. These figures typically do not include on-condition costs, such as related investigative and corrective actions following an initial inspection finding; nor do they include incidental costs, such as the time required to gain access and close up, planning time, or time necessitated by other administrative actions. Although we agree that the work-hours required for an operator to comply with the requirements of the supplemental NPRM may be more than the hours reflected in the cost estimate, we cannot predict on-condition costs for the entire fleet. After the original NPRM was issued, we reviewed the figures we have used over the past several years to calculate AD costs to operators. To account for various inflationary costs in the airline industry, we find it necessary to increase the labor rate used in these calculations from $65 per work hour to $80 per work hour. The cost impact information, below, reflects this increase in the specified hourly labor rate.

FAA's Determination and Proposed Requirements of the Supplemental NPRM

A certain change discussed above expands the scope of the original NPRM; therefore, we have determined that it is necessary to reopen the comment period to provide additional opportunity for public comment on this supplemental NPRM.

Costs of Compliance

This supplemental NPRM would affect about 763 airplanes of U.S. registry. The proposed inspection would take about 1 work hour per airplane, at an average labor rate of $80 per work hour. Based on these figures, the estimated cost of this supplemental NPRM on U.S. operators is $61,040, or $80 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-23889; Directorate Identifier 2005-NM-252-AD.

Comments Due Date

(a) The FAA must receive comments on this AD action by June 19, 2006.

Affected ADs

(b) None.

Applicability

(c) This AD applies to Airbus Model A318, A319, A320, and A321 series airplanes, certificated in any category, except airplanes having manufacturer serial number (MSN) 2155 and subsequent.

Unsafe Condition

(d) This AD results from a report of a low pressure valve of the twin motor actuator found partially open, although the valve detection system indicated that the valve was closed. Investigation revealed that the locating pin in the actuator was too short to engage with the valve slot, resulting in incorrect alignment of the actuator and the drive assembly, causing the valve to remain partially open. We are issuing this AD to ensure that, in the event of an engine fire, the valve actuator functions properly to block the fuel flow to the engine and prevent an uncontrollable fire.

Compliance

(e) You are responsible for having the actions required by this AD performed within the compliance times specified, unless the actions have already been done.

Inspection

(f) Within 6,000 flight hours or 24 months after the effective date of this AD, whichever is first: Inspect to determine the part number (P/N) of the twin motor actuators in accordance with Airbus Service Bulletin A320-28-1122, including Appendix 01, dated November 19, 2004.

(1) For airplanes having any actuator with P/N FRH010041 or P/N FRH010034, no further action is required by this paragraph.

(2) For airplanes having any actuator with P/N HTE190001-2, where the actuator serial number is not identified in Appendix 01 of the service bulletin, no further action is required by this paragraph.

(3) For airplanes having any actuator with P/N HTE190001, HTE190001-1, or HTE190001-2, where the actuator serial number is identified in Appendix 01 of the service bulletin, do all applicable related investigative and corrective actions before further flight, in accordance with the service bulletin.

Note 1: Airbus Service Bulletin A320-28-1122, dated November 19, 2004, refers to FR-HITEMP Service Bulletin HTE190001-28-003, dated March 30, 2004, as an additional source of service information for determining the part number of the twin motor actuators and accomplishing any related investigative and corrective actions.

Parts Installation

(g) As of the effective date of this AD: No person may install an actuator with P/N HTE190001, HTE190001-1, or HTE190001-2, and a serial number identified in Appendix 01 of Airbus Service Bulletin A320-28-1122, dated November 19, 2004, on any airplane unless all applicable related investigative and corrective actions have been done in accordance with the requirements of paragraph (f)(3) of this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2005-189, dated November 23, 2005, also addresses the subject of this AD.

Issued in Renton, Washington, on May 9, 2006.
Ali Bahrami,
Manager, Transport Airplane Directorate, Aircraft Certification Service.

[FR Doc. E6-7557 Filed 5-17-06; 8:45 am]

BILLING CODE 4910-13-P